DEPARTMENT OF COMMERCE

National Oceanic and Atmospheric Administration

Proposed Information Collection; Comment Request; A Coastal Management Needs Assessment and Market Analysis for Financing Resilience

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 16, 2019.

ADDRESSES: Direct all written comments to Adrienne Thomas, Government Information Specialist, NOAA, 151 Patton Avenue, Room 159, Asheville, NC 28801 (or via the internet at PRAcomments@doc.gov). All comments received are part of the public record. All Personally Identifiable Information (for example, name and address) voluntarily submitted by the commenter may be publicly accessible. Do not submit Confidential Business Information or otherwise sensitive or protected information.

FOR FURTHER INFORMATION CONTACT: Requests for additional information or copies of the information collection instrument and instructions should be directed to Kim Penn, NOAA Office for Coastal Management, 1325 East-West Hwy., Silver Spring, MD 20910, (240) 533-0727, and kim.penn@noaa.gov.

SUPPLEMENTARY INFORMATION:

I. Abstract

This request is for a new information collection.

NOAA's Office for Coastal Management (OCM) and its regional, state, federal, and non-profit partners have worked closely with coastal managers across the country to develop hazard mitigation and resilience plans. These have ranged from short-term responses to immediate threats to long-term adaptation strategies in response to gradual changes. While there are studies on the costs and benefits of hazard mitigation and adaptation options and various tools to help inform government investments, there is no comprehensive inventory or guide to selecting from applicable funding sources or identifying appropriate financing strategies. The range of funding and financing options, from grants and low-interest loans to more innovative private-public partnerships and emerging bonds, presents an ever-changing and complex array of choices. This diversity of funding and financing mechanisms, however, provides an opportunity for decision-makers to leverage resources to support and advance community resilience.

In many coastal communities, investment in resilience measures remains either non-existent or reactive in response to a catastrophic event. While there are no data on the number of adaptation plans that have been implemented, lack of funding is a frequently cited barrier to implementation. Understanding funding and financing options at the time resilience planning is undertaken, and then incorporating financial strategies into the recommendations, will help ensure that resources are invested wisely, and implementation occurs.

This request is for a set of related interviews to support a broader needs assessment to define the types of funding, financing mechanisms, and associated resources that OCM's state and local coastal manager customers need for coastal resilience activities and a market analysis of existing funding and financing programs and mechanisms. The interviews will collect relevant information from interviewees on their experiences with coastal resilience funding and financing mechanisms, challenges and opportunities related to funding and financing coastal resilience, and technical support needs and opportunities that OCM can address.

The information provided by interviewees will be synthesized into the needs assessment, which will address needs and information gaps partitioned by region, financial scale, time scale, and scope/sector. The information provided by interviewees will also be used to inform an inventory of existing entities providing resources for resilience funding, as well as a summary of existing and emerging funding sources and financial tools and mechanisms for coastal resilience. Finally, the interviews will inform recommendations on OCM's potential niche in addressing the identified needs and gaps.

II. Method of Collection

Information will be collected during structured telephone interviews.

III. Data

OMB Control Number: 0648-XXXX.

Form Number(s): None.

Type of Review: Regular submission.

Affected Public: Business or other for-profit organizations; Not-for-profit institutions; State, Local, or Tribal government; Federal government.

Estimated Number of Respondents: 36.

Estimated Time per Response: 1.25 hours.

Estimated Total Annual Burden Hours: 45.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-15216 Filed 7-16-19; 8:45 am]

BILLING CODE 3510-JE-P